DEPARTMENT OF COMMERCE

International Trade Administration

[C-357-813]

Honey From Argentina: Notice of Rescission of Countervailing Duty Administrative Review

AGENCY: Import Administration, International Trade Administration, Department of Commerce.

SUMMARY: In accordance with 19 CFR 351.213(b)(1), the American Honey Producers Association and the Sioux Honey Association (Petitioners), timely requested an administrative review of the countervailing duty order on Honey from Argentina entered, or withdrawn from warehouse, for consumption on or after January 1, 2004 and on or before December 31, 2004. We initiated this review on January 31, 2005. See Initiation of Antidumping and Countervailing Duty Administrative Reviews and Request for Revocation in Part, 70 FR 4818 (January 31, 2005) (Initiation Notice). We are now rescinding this administrative review because Petitioners have timely withdrawn their request for review in accordance with 19 CFR 351.213(d)(1). No other parties requested a review.

EFFECTIVE DATE: April 18, 2005.

FOR FURTHER INFORMATION CONTACT: Dara Iserson or Thomas Gilgunn at (202) 482-4052 and (202) 482-4236, respectively; AD/CVD Operations, Office 6, Import Administration, International Trade Administration, U.S. Department of Commerce, 14th Street and Constitution Avenue, NW., Washington, DC 20230.

SUPPLEMENTARY INFORMATION:

Background

On December 10, 2001, the Department of Commerce (the Department) published a countervailing duty order on honey from Argentina. See Notice of Countervailing Duty Orders: Honey from Argentina, 66 FR 63673 (December 10, 2001). On December 30, 2004, Petitioners requested an administrative review of the countervailing duty order for honey from Argentina produced/exported during the period January 1, 2004, through December 31, 2004. In accordance with 19 CFR 351.221(c)(1)(i), we published a notice of initiation of the review on January 31, 2004. See Initiation Notice. On February 22, 2005, Petitioners withdrew their request for review.

Rescission of Countervailing Duty Administrative Review

The Department's regulations at 19 CFR 351.213(d)(1) provide that the Department will rescind an administrative review if a party that requested a review withdraws the request within 90 days of the date of publication of the notice of initiation of the requested review. Petitioners withdrew their request for an administrative review on February 22, 2005, which is within the 90-day deadline. No other party requested a review of the order. Therefore, the Department is rescinding this administrative review for the period January 1, 2004, through December 31, 2004.

The Department will instruct U.S. Customs and Border Protection (CBP) to liquidate shipments of honey from Argentina entered, or withdrawn from warehouse, for consumption on or after January 1, 2004 and on or before December 31, 2004 at the cash deposit rate in effect on the date of entry.

Notification

This notice also serves as a reminder to parties subject to administrative protective orders (APO) of their responsibility concerning the disposition of proprietary information disclosed under APO in accordance with 19 CFR 351.305(a)(3) of the Department's regulations. Timely written notification of the return/destruction of APO material or conversion to judicial protective order is hereby requested. Failure to comply with the regulations and terms of an APO is a violation which is subject to sanctions.

This notice is issued and published in accordance with 19 CFR 351.213(d)(4) and sections 751(a)(1) and 777(i)(1) of the Tariff Act of 1930, as amended.

Dated: April 11, 2005.
Barbara E. Tillman,
Acting Deputy Assistant Secretary for Import Administration.

[FR Doc. E5-1811 Filed 4-15-05; 8:45 am]

BILLING CODE 3510-DS-P